DEPARTMENT OF JUSTICE

Notice of Lodging of Proposed Consent Decrees Under the Comprehensive Environmental Response, Compensation, and Liability Act

Notice is hereby given that on November 21, 2014, a proposed Consent Decree in United States v. Antilles Gas Corp., et al., Civil Action No. 1:14-cv-00100, was lodged in the United States District Court, District of the Virgin Islands, between the United States and the following Settling Defendants: Antilles Gas Corp.; Bohlke International Airways, Inc.; The Buccaneer, Inc.; Bunkers of St. Croix, Inc.; CarMar, Inc.; Chico's Rental of Equipment; Coral World Ocean Park; Cruzan Rum VIRIL; Dan's Trucking and Removal; Devcon International Corp.; Government of the United States Virgin Islands; La Reine Service Station; Mackay Enterprises; Merchant's Market of St. Croix, Inc.; Metro Motors SC, Inc.; Monarch Heavy Equipment; The Other End Enterprises, Inc.; Paradise Waste Systems, Inc.; Quality Electric Supply, Inc.; Seaborne Virgin Islands, Inc.; St. Croix Marine Corp.; Topa Equities VI Corporation (d/b/a West Indies Company); Tropic View Estates, LTD (d/b/a H.H. Tire and Battery); United Corporation; VI Cement and Building Products, Inc.; V.I. Housing Authority; V.I. Port Authority; and V.I. Telephone Corp.

In this action brought under Section 107 of the Comprehensive Environmental Response, Compensation, and Liability Act of 1980, 42 U.S.C. 9607 (“CERCLA”), the United States seeks to recover costs incurred by the United States Environmental Protection Agency at the TC Waste Oil Superfund Site in St. Croix, U.S. Virgin Islands (the “Site”). Through the proposed Consent Decree, 23 private companies, three Virgin Islands government entities or public corporations, and five Settling Federal Agencies shall reimburse the United States a combined $1,874,849.

The publication of this notice opens a period for public comment on the Consent Decree. Comments should be addressed to the Assistant Attorney General, Environment and Natural Resources Division, and should refer to United States v. Antilles Gas Corp., et al. (D.V.I.) Ref. No. 90-11-3-10248. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the Consent Decree may be examined and downloaded at this Justice Department Web site: http://www.usdoj.gov/enrd/Consent_Decrees.html. We will provide paper copies of the consent decree upon written request and payment of reproduction costs. Please mail your request and payment to:

Consent Decree Library,

U.S. DOJ—ENRD,

P.O. Box 7611,

Washington, DC 20044-7611.

Please enclose a check or money order for $12.25 (25 cents per page reproduction cost) payable to the United States Treasury.

Robert E. Maher, Jr.,
Assistant Section Chief, Environmental Enforcement Section, Environment and Natural Resources Division.

[FR Doc. 2014-28103 Filed 11-26-14; 8:45 am]

BILLING CODE 4410-15-P